DEPARTMENT OF TRANSPORTATION

Surface Transportation Board

[STB Finance Docket No. 34597]

Progressive Rail, Incorporated—Lease and Operation Exemption—Rail Line of Union Pacific Railroad Company

Progressive Rail, Incorporated (PGR), a Class III rail carrier, has filed a verified notice of exemption under 49 CFR 1150.41 to lease from Union Pacific Railroad Company and operate 38.3 miles of rail line consisting of the Cameron Line that extends between milepost 50.00 at or near Cameron and milepost 11.70 at or near Norma, in Barron and Chippewa Counties, WI.¹

¹ The rail line in the instant transaction connects in Barron County, WI, to a rail line that is the subject of a concurrently filed notice of exemption in STB Finance Docket No. 34596, Wisconsin Northern Railroad Company, LLC-Lease and Operation Exemption-Rail Lines of Wisconsin Central, Ltd., wherein Wisconsin Northern Railroad Company (WNRC) has sought to lease and operate approximately 23.97 miles of rail line in Barron County, WI. PGR is the parent company of WNRC. However, by letter filed on October 15, 2004, WNRC has requested withdrawal of its notice, indicating that PGR proposes to file a new notice in its own behalf to lease and operate the 23.97 miles of rail line in Barron County to avoid the common control situation that otherwise would occur and require Board approval. The withdrawal request was granted by decision served October 22, 2004, in that proceeding.

PGR certifies that its projected revenues as a result of this transaction will not result in the creation of a Class II or Class I rail carrier. The transaction was scheduled to be consummated no sooner than October 12, 2004, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34597, must be filed with the Surface Transportation Board, 1925 K Street, NW., Washington, DC 20423-0001. In addition, a copy of each pleading must be served on: Thomas F. McFarland, P.C., 208 South LaSalle St., Suite 1890, Chicago, IL 60604-1112.

Board decisions and notices are available on our Web site at http://www.stb.dot.gov.

Decided: October 22, 2004.
By the Board, David M. Konschnik, Director, Office of Proceedings.
Vernon A. Williams,
Secretary.

[FR Doc. 04-24116 Filed 10-28-04; 8:45 am]

BILLING CODE 4915-01-P